DEPARTMENT OF DEFENSE

Department of the Army

Notice of Intent To Grant Exclusive Patent License to 4D Tech Solutions, Inc., Morgantown, WV

AGENCY: Department of the Army, DoD.

ACTION: Notice of Intent.

SUMMARY: The Department of the Army hereby gives notice of its intent to grant to 4D Tech Solutions, Inc.; a corporation having its principle place of business at 1275 Stewartstown Road, Morgantown, WV 26505, an exclusive license.

DATES: Written objections must be filed not later than 15 days following publication of this announcement.

ADDRESSES: Send written objections to U.S. Army Research Laboratory Technology Transfer and Outreach Office, RDRL-DPT/Thomas Mulkern, Building 321 Room 110, Aberdeen Proving Ground, MD 21005-5425.

FOR FURTHER INFORMATION CONTACT: Thomas Mulkern, (410) 278-0889, email: ORTA@arl.army.mil.

SUPPLEMENTARY INFORMATION: The Department of the Army plans to grant an exclusive license to 4D Tech Solutions, Inc. relative to “LADAR Receiver with Enhanced Signal to Noise Ratio and Method”, US Patent Application No.: 15/340,307, Filing Date 1 November 2016, for the following fields of use—

• Manned and Unmanned Aerial Vehicles (UAVs)

• Surveillance and Security (e.g. perimeter security)

• Underwater Imaging

• Manned and Unmanned Ground Vehicles (UGVs), (excluding automotive navigation and off-road construction vehicle autonomous applications)

The prospective exclusive license may be granted unless within fifteen (15) days from the date of this published notice, the U.S. Army Research Laboratory receives written objections including evidence and argument that establish that the grant of the license would not be consistent with the requirements of 35 U.S.C. 209(e) and 37 CFR 404.7(a)(1)(i), Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

Brenda S. Bowen,
Army Federal Register Liaison Officer.

[FR Doc. 2018-08898 Filed 4-26-18; 8:45 am]

BILLING CODE 5001-03-P